DEPARTMENT OF TRANSPORTATION

Office of the Secretary

Aviation Proceedings, Agreements Filed the Week Ending March 20, 2010

The following Agreements were filed with the Department of Transportation under sections 412 and 414 of the Federal Aviation Act, as amended (49 U.S.C. 1382 and 1384) and procedures governing proceedings to enforce these provisions. Answers may be filed within 21 days after the filing of the application.

Docket Number: DOT-OST-2010-0064.

Date Filed: March 16, 2010.

Parties: Members of the International Air Transport Association.

Subject: TC31 North & Central Pacific, Special Passenger Amending Resolution from Korea (Rep. of) to Canada, Caribbean Mexico, Central America, South America (Memo 0509). Intended effective date: 1 April 2010.

Docket Number: DOT-OST-2010-0069.

Date Filed: March 19, 2010.

Parties: Members of the International Air Transport Association.

Subject: TC31 North & Central Pacific, Special Passenger Amending Resolution from Korea (Rep. of) to USA (Memo 0515). Intended effective date: 1 April 2010.

Renee V. Wright,
Program Manager, Docket Operations, Federal Register Liaison.

[FR Doc. 2010-7179 Filed 3-30-10; 8:45 am]

BILLING CODE 4910-62-P